DEPARTMENT OF HEALTH AND HUMAN SERVICES

Centers for Medicare & Medicaid Services

[Document Identifier: CMS-1856/1893, CMS-R-254, CMS-10160, CMS-10154]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Request for Certification in the Medicare and/or Medicaid Program to Provide Outpatient Physical Therapy (OPT) and/or Speech Pathology Services, OPT Speech Pathology Survey Report and Supporting Regulations in 42 CFR 485.701-485.729.; Form No.: CMS-1856, CMS-1893 (OMB # 0938-0065); Use: The Medicare Program requires OPT providers to meet certain health and safety requirements. The request for certification form is used by State agency surveyors to determine if minimum Medicare eligibility requirements are met. The survey report form records the result of the on-site survey; Frequency: On occasion and Other—every 6 years; Affected Public: Business or other for-profit; Number of Respondents: 2,968; Total Annual Responses: 495; Total Annual Hours: 866.

2. Type of Information Collection Request: Revision of a currently approved collection; Title of Information Collection: National Medicare Education Program (NMEP); Form No.: CMS-R-254 (OMB # 0938-0738); Use: The NMEP was developed to inform people with Medicare, their family members, and other interested parties about their Medicare options. The Medicare Modernization Act of 2003 expanded the program to include among other things, a new Prescription Drug Benefit; therefore, this package has been revised to include this information. The NMEP employs numerous communication channels to educate people with Medicare and help them make more informed decisions concerning the Medicare program benefits; health plan choices; supplemental health insurance; rights, responsibilities, and protections; and preventive health services. As part of the NMEP, CMS must provide information to this population about the Medicare program and their Health Plan options, as well as information about the new prescription drug coverage to help them choose the option that is right for them. This survey seeks to assess the awareness, knowledge, understanding and experiences of people with Medicare regarding the Medicare program overall and these new initiatives; Frequency: On occasion; Affected Public: Individuals or Households; Number of Respondents: 5,700; Total Annual Responses: 5,700; Total Annual Hours: 1,425.

3. Type of Information Collection Request: New collection; Title of Information Collection: The Consumer Assessment of Health Behaviors Survey; Form No.: CMS-10160 (OMB # 0938-NEW); Use: New focus on personalizing messages by relating health care choices with individual beliefs may help guide these educational efforts. The intent of this survey is to understand the role personal responsibility plays when people with Medicare make health care decisions; Affected Public: Individuals or households; Number of Respondents: 1580; Total Annual Responses: 1580; Total Annual Hours: 395.

4. Type of Information Collection Request: New collection; Title of Information Collection: Physician Assessment of Hospital Quality Reports; Form No.: CMS-10154 (OMB # 0938-NEW); Use: This assessment will monitor the attitudes and behaviors of physicians as they relate to the concerns of their patients who have been exposed to hospital quality-of-care reports at CMS's Web Site; Affected Public: Individuals or households; Number of Respondents: 1730; Total Annual Responses: 1730; Total Annual Hours: 346.

To obtain copies of the supporting statement and any related forms for these paperwork collections referenced above, access CMS Web site address at http://www.cms.hhs.gov/regulations/pra/, or e-mail your request, including your address, phone number, OMB number, and CMS document identifier, to Paperwork@cms.hhs.gov, or call the Reports Clearance Office on (410) 786-1326.

To be assured consideration, comments and recommendations for the proposed information collections must be received by the OMB Desk Officer at the address below, no later than 5 p.m. on October 17, 2005.

OMB Human Resources and Housing Branch, Attention: Christopher Martin, New Executive Office Building, Room 10235, Washington, DC 20503.

Dated: September 8, 2005.
Michelle Short,
Director, Regulations Development Group, Office of Strategic Operations and Regulatory Affairs.

[FR Doc. 05-18508 Filed 9-15-05; 8:45 am]

BILLING CODE 4120-01-P